DEPARTMENT OF HEALTH AND HUMAN SERVICES

Health Resources and Services Administration

National Advisory Committee on Rural Health and Human Services; Notice of Meeting

In accordance with section 10(a)(2) of the Federal Advisory Committee Act (Pub. L. 92-463), notice is hereby given that the following committee will convene its seventy-second meeting.

Name: National Advisory Committee on Rural Health and Human Services.

Dates and Time: April 3, 2013, 9:00 a.m.-5:00 p.m. April 4, 2013, 9:00 a.m.-5:00 p.m. April 5, 2013, 8:45 a.m.-11:15 a.m.

Place: Hospice & Palliative Care of Western Colorado, 3090 North 12th Street, Unit B, Grand Junction, CO 81506, Web site: www.hospicewco.com.

Phone: (970) 241-2212.

Status: The meeting will be open to the public.

Purpose: The National Advisory Committee on Rural Health and Human Services provides advice and recommendations to the Secretary with respect to the delivery, research, development, and administration of health and human services in rural areas.

Agenda: Wednesday morning, at 9:00 a.m., the meeting will be called to order by the Chairman of the Committee, the Honorable Ronnie Musgrove. The Committee will be examining hospice and palliative care for rural patients and efforts to ameliorate rural poverty. The day will conclude with a period of public comment at approximately 5:00 p.m.

Thursday morning, at approximately 9:00 a.m., the Committee will break into Subcommittees and depart for site visits to rural healthcare and human services providers in Colorado. One panel from the Health Subcommittee will visit Family Health West Hospital in Fruita, CO. Another panel from the Health Subcommittee will visit Plateau Valley Clinic in Collbran, CO. The Human Services Subcommittee will visit Montrose County Health and Human Services in Montrose, Colorado. The day will conclude at the Doubletree Hilton Grand Junction with a period of public comment at approximately 5:00 p.m.

The final session will be convened on Friday morning at 9:00 a.m. The Committee will summarize key findings from the meeting and develop a work plan for the next quarter and the following meeting. The meeting will adjourn at 11:15 a.m.

For Further Information Contact: Steve Hirsch, MSLS, Executive Secretary, National Advisory Committee on Rural Health and Human Services, Health Resources and Services Administration, Parklawn Building, Room 5A-05, 5600 Fishers Lane, Rockville, MD 20857, Telephone (301) 443-0835, Fax (301) 443-2803.

Persons interested in attending any portion of the meeting should contact Nathan Nash at the Office of Rural Health Policy (ORHP) via telephone at (301) 443-0835 or by email at nnash@hrsa.gov. The Committee meeting agenda will be posted on ORHP's Web site http://www.hrsa.gov/advisorycommittees/rural/.

Dated: February 21, 2013.
Bahar Niakan,
Director, Division of Policy and Information Coordination.

[FR Doc. 2013-04652 Filed 2-27-13; 8:45 am]

BILLING CODE 4165-15-P